DEPARTMENT OF THE INTERIOR

Bureau of Indian Affairs

Indian Gaming

AGENCY: Bureau of Indian Affairs, Interior.

ACTION: Notice of Approved Tribal-State Gaming Amendment.

SUMMARY: This notice publishes an Approval of the Third Amendment to Tribal-State Compact for Technical Changes to Class III Video Games of Chance on the Red Lake Band of Chippewa Reservation.

DATES: Effective Date: April 22, 2009.

FOR FURTHER INFORMATION CONTACT: Paula L. Hart, Acting Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. This Amendment allows for technical changes to the Compact that address the technical advances that have occurred in the market with regard to slot machines and sets in place the technical standards for gaming devices that accept coin, currency or cashless tickets and issue cashless tickets.

Dated: April 13, 2009.
George T. Skibine,
Deputy Assistant Secretary for Policy and Economic Development.

[FR Doc. E9-9263 Filed 4-21-09; 8:45 am]

BILLING CODE 4310-4N-P